DEPARTMENT OF ENERGY

National Coal Council

AGENCY: Office of Fossil Energy, Department of Energy.

ACTION: Notice of renewal.

SUMMARY: Pursuant to section 14(a)(2)(A) of the Federal Advisory Committee Act (Pub. L. 92-463) and in accordance with Title 41 of the Code of Federal Regulations, Section 102-3.65(a), and following consultation with the Committee Management Secretariat, General Services Administration, notice is hereby given that the National Coal Council will be renewed for a two-year period beginning November 23, 2011. The Council will provide advice and recommendations to the Secretary of Energy on general policy matters relating to coal issues.

Additionally, the renewal of the Council has been determined to be essential to the conduct of the Department's business and to be in the public interest in connection with the performance of duties imposed upon the Department of Energy by law and agreement. The Council will continue to operate in accordance with the provisions of the Federal Advisory Committee Act and the rules and regulations in implementation of that Act.

FOR FURTHER INFORMATION CONTACT: Michael Ducker at (202) 586-7810.

Issued at Washington, DC, on November 23, 2011.
Carol A. Matthews,
Committee Management Officer.

[FR Doc. 2011-30836 Filed 11-29-11; 8:45 am]

BILLING CODE 6450-01-P